DEPARTMENT OF TRANSPORTATION

Federal Aviation Administration

14 CFR Part 39

[Docket No. FAA-2005-21139; Directorate Identifier 2003-NM-196-AD; Amendment 39-14193; AD 2005-15-04]

RIN 2120-AA64

Airworthiness Directives; Bombardier Model CL-600-1A11 (CL-600), Model CL-600-2A12 (CL-601), and Model CL-600-2B16 (CL-601-3A, CL-601-3R, and CL-604) Airplanes

AGENCY: Federal Aviation Administration (FAA), Department of Transportation (DOT).

ACTION: Final rule.

SUMMARY: The FAA is adopting a new airworthiness directive (AD) for certain Bombardier Model CL-600-1A11 (CL-600), Model CL-600-2A12 (CL-601), and Model CL-600-2B16 (CL-601-3A, CL-601-3R, and CL-604) airplanes. This AD requires operators to assign serial numbers or part numbers to certain landing gear parts and to establish the number of landings on the parts, if necessary. This AD also requires operators to revise the Airworthiness Limitations section of the Instructions for Continued Airworthiness to reflect the new life limits of the landing gear parts. This AD is prompted by reports that landing gear parts that have safe-life limits but do not have serial numbers or part numbers can be removed from one landing gear and re-installed on another, making tracking difficult. We are issuing this AD to prevent life-limited landing gear parts from being used beyond their safe-life limits, which could lead to collapse of the landing gear.

DATES: Effective August 30, 2005.

The Director of the Federal Register approved the incorporation by reference of certain publications listed in the AD as of August 30, 2005.

ADDRESSES: You may examine the AD docket on the Internet at http://dms.dot.gov or in person at the Docket Management Facility, U.S. Department of Transportation, 400 Seventh Street SW., Nassif Building, Room PL-401, Washington, DC.

Contact Bombardier, Inc., Canadair, Aerospace Group, P.O. Box 6087, Station Centre-ville, Montreal, Quebec H3C 3G9, Canada, for service information identified in this AD.

FOR FURTHER INFORMATION CONTACT: Serge Napoleon, Aerospace Engineer, Airframe and Propulsion Branch, ANE-171, FAA, New York Aircraft Certification Office, 1600 Stewart Avenue, suite 410, Westbury, New York 11590; telephone (516) 228-7312; fax (516) 794-5531.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model CL-600-1A11 (CL-600), Model CL-600-2A12 (CL-601), and Model CL-600-2B16 (CL-601-3A, CL-601-3R, and CL-604) airplanes. That NPRM was published in the Federal Register on May 9, 2005 (70 FR 24331). (A correction of the rule was published in the Federal Register on May 19, 2005 (70 FR 28988)). That NPRM proposed to require operators to assign serial numbers or part numbers to certain landing gear parts and to establish the number of landings on the parts, if necessary. That NPRM also proposed to require operators to revise the Airworthiness Limitations section of the Instructions for Continued Airworthiness to reflect the new life limits of the landing gear parts.

Comments

We provided the public the opportunity to participate in the development of this AD. We received no comments on the NPRM or on the determination of the cost to the public.

Explanation of Change to Applicability

We have revised the applicability to reflect the model designations as published in the most recent type certificate data sheet.

Conclusion

We have carefully reviewed the available data and determined that air safety and the public interest require adopting the AD with the change described previously. We have determined that this change will neither increase the economic burden on any operator nor increase the scope of the AD.

Costs of Compliance

The following table provides the estimated costs for U.S. operators to assign serial numbers or part numbers to certain landing gear parts to comply with this AD.

Estimated Costs
Model | Work hours | Average labor rate per hour | Parts | Cost per airplane | Number of U.S.-registered airplanes | Fleet cost
CL-600-1A11 (CL-600) | 13 | $65 | None | $845 | 54 | $45,630
CL-600-2A12 (CL-601), CL-600-2B16 (CL-601-3A and CL-601-3R) | 9 | 65 | None | 585 | 128 | 74,880
CL-600-2B16 (CL604) | 5 | 65 | None | 325 | 119 | 38,675

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-15-04 Bombardier, Inc. (Formerly Canadair): Amendment 39-14193. Docket No. FAA-2005-21139; Directorate Identifier 2003-NM-196-AD.

Effective Date

(a) This AD becomes effective August 30, 2005.

Affected ADs

(b) None.

Applicability

(c) This AD applies to the Bombardier airplane models, certificated in any category, listed in Table 1 of this AD.

Table 1.—Applicability
Bombardier model— | As identified in Bombardier service bulletin—
CL-600-1A11 (CL-600) airplanes | 600-0710, Revision 01, dated December 15, 2003.
CL-600-2A12 (CL-601) and CL-600-2B16 (CL-601-3A, and CL-601-3R) airplanes | 601-0546, Revision 01, dated December 15, 2003.
CL-600-2B16 (CL-604) airplanes | 604-32-014, dated May 31, 2002.

Unsafe Condition

(d) This AD was prompted by reports that landing gear parts that have safe-life limits but do not have serial numbers or part numbers can be removed from one landing gear and re-installed on another, making tracking difficult. We are issuing this AD to prevent life-limited landing gear parts from being used beyond their safe-life limits, which could lead to collapse of the landing gear.

Compliance

(e) You are responsible for having the actions required by this AD performed within the compliance times specified, unless the actions have already been done.

Add Serial Numbers or Part Numbers

(f) At the applicable compliance time specified in paragraph (f)(1), (f)(2), or (f)(3) of this AD: Add serial numbers and part numbers, as applicable, to the parts identified in the service bulletins. Do all actions in accordance with the applicable service bulletin.

(1) For parts identified in the Bombardier Service Bulletin 600-0710, Revision 01, dated December 15, 2003; and Bombardier Service Bulletin 601-0546, Revision 01, dated December 15, 2003; as having a compliance time of “five years for the parts listed in Part A': Within 60 months after the effective date of this AD.

(2) For parts identified in Bombardier Service Bulletin 600-0710, Revision 01, dated December 15, 2003; and Bombardier Service Bulletin 601-0546, Revision 01, dated December 15, 2003; as having a compliance time of “ten years for the parts listed in Part B': Within 120 months after the effective date of this AD.

(3) For parts identified in the Bombardier Service Bulletin 604-32-014, dated May 31, 2002, as having a compliance time of “no later than a calendar time of 8 years': Within 96 months after the effective date of this AD.

Note 1: The Bombardier service bulletins refer to the Messier-Dowty service bulletins in Table 2 of this AD as additional sources of service information for adding part numbers or serial numbers by vibro-peening the numbers on main landing gear (MLG) and nose landing gear (NLG) components that do not have them; and for determining the number of landings for parts without a part number or serial number on which the time since new (TSN) and cycles since new (CSN) have not been tracked.

Table 2.—Messier-Dowty Service Bulletins
Messier-Dowty service bulletin | Model | Landing gear corresponding | Component Bombardier service bulletin(s)
M-DT SB104467009/010-32-1, dated March 19, 2001 | CL-600-1A11 (CL-600), CL-600-2A12 (CL-601) and CL-600-2B16 (CL-601-3A and CL-601-3R) airplanes | MLG side strut retraction actuator eye bolt | 600-0710 and 601-0546.
M-DT SB19090-32-4, dated March 19, 2001 | CL-600-2B16 (CL-604) airplanes | MLG shock strut | 604-32-014.
M-DT SB20020-32-5, dated July 12, 2001 | CL-600-2B16 (CL-604) airplanes | NLG shock strut | 604-32-014.
M-DT SB200814001-32-3, dated March 19, 2001 | CL-600-1A11 (CL-600), CL-600-2A12 (CL-601) and CL-600-2B16 (CL-601-3A and CL-601-3R) airplanes | NLG drag brace hinge pin | 600-0710 and 601-0546.
M-DT SB200922001/2-32-6, dated March 19, 2001 | CL-600-1A11 (CL-600) airplanes | MLG shock strut | 600-0710.
M-DT SB200924003/004-32-16, dated July 12, 2001 | CL-600-1A11 (CL-600) airplanes | NLG shock strut | 600-0710.
M-DT SB6100-32-10, dated March 19, 2001 | CL-600-2A12 (CL-601) and CL-600-2B16 (CL-601-3A and CL-601-3R) airplanes | MLG shock strut pin | 601-0546.
M-DT SB6500-32-1, dated March 19, 2001 | CL-600-1A11 (CL-600), CL-600-2A12 (CL-601) and CL-600-2B16 (CL-601-3A and CL-601-3R) airplanes | MLG side strut retraction actuator | 600-0710 and 601-0546.
M-DT SB7200-32-6, dated March 19, 2001 | CL-600-1A11 (CL-600), CL-600-2A12 (CL-601) and CL-600-2B16 (CL-601-3A and CL-601-3R) airplanes | NLG drag brace hinge pin | 600-0710 and 601-0546.
M-DT SB7300-32-16, dated July 12, 2001 | CL-600-2A12 (CL-601) and CL-600-2B16 (CL-601-3A and CL-601-3R) airplanes | NLG shock strut | 601-0546.

Establish the Number of Landings

(g) At the applicable time specified in paragraph (f) of this AD: If a component does not have a serial number and the CSN or TSN were not tracked, use the formula in the applicable Messier-Dowty service bulletin in Table 2 of this AD to establish the number of landings (TSN or CSN), and record the newly calculated TSN or CSN in the aircraft log books.

Revise the Airworthiness Limitations Section (ALS)

(h) Within 30 days after the effective date of this AD, revise the ALS of the applicable Instructions for Continued Airworthiness to reflect the new life limits of the landing gear parts by inserting copies of the Canadair temporary revisions (TR) in Table 3 of this AD into the ALS of the applicable Canadair Time-Limits/Maintenance Check Manual. When the contents of the TRs are included in the general revisions of the ALS, these TRs may be removed provided the relevant information in the ALS is identical to that in the TRs.

Table 3.—Canadair Temporary Revisions
Temporary revision | Applicable Canadair time-limits/maintenance check manual | Manual section | Model
5-116, dated April 11, 2002 | PSP 605 | 5-10-10 | CL-600-1A11 (CL-600) airplanes.
5-190, dated April 11, 2002 | PSP 601-5 | 5-10-10 | CL-600-2A12 (CL-601) and CL-600-2B16 (CL-601-3A and CL-601-3R) airplanes.
5-191, dated April 11, 2002 | PSP 601-5 | 5-10-11 | CL-600-2A12 (CL-601) and CL-600-2B16 (CL-601-3A and CL-601-3R) airplanes.
5-192, dated April 11, 2002 | PSP 601-5 | 5-10-12 | CL-600-2A12 (CL-601) and CL-600-2B16 (CL-601-3A and CL-601-3R) airplanes.
5-2-6, dated April 11, 2002 | CL-604 | 5-10-10 | CL-600-2B16 (CL-604) airplanes.
5-204, dated April 11, 2002 | PSP 601A-5 | 5-10-10 | CL-600-2A12 (CL-601) and CL-600-2B16 (CL-601-3A and CL-601-3R) airplanes.
5-205, dated April 11, 2002 | PSP 601A-5 | 5-10-11 | CL-600-2A12 (CL-601) and CL-600-2B16 (CL-601-3A and CL-601-3R) airplanes.
5-206, dated April 11, 2002 | PSP 601A-5 | 5-10-12 | CL-600-2A12 (CL-601) and CL-600-2B16 (CL-601-3A and CL-601-3R) airplanes.

Parts Installation

(i) As of the effective date of this AD, no person may install on any airplane a landing gear part, unless it has had the applicable part number or serial number added in accordance with paragraph (f) of this AD; and had the number of landings established in accordance with paragraph (g) of this AD.

No Reporting Required

(j) Although the service bulletins identified in paragraph (f) of this AD specify that operators submit incorporation notices to Bombardier after each new part number or serial number and landings assigned to these parts is added, this AD does not include that action.

Actions Done in Accordance With Previous Issues of Service Bulletins

(k) Actions done before the effective date of this AD in accordance with Bombardier Service Bulletin 601-0546, dated May 31, 2002; and Bombardier Service Bulletin 600-0710, dated May 31, 2002; are acceptable for compliance with the corresponding actions specified in this AD.

Alternative Methods of Compliance (AMOCs)

(l) The Manager, New York Aircraft Certification Office, FAA, has the authority to approve AMOCs for this AD, if requested using the procedures found in 14 CFR 39.19.

Related Information

(m) Canadian airworthiness directives CF-2003-18R1, dated January 17, 2005; CF-2003-20, dated July 24, 2003; and CF-2003-21R1, dated January 21, 2005; also address the subject of this AD.

Material Incorporated by Reference

(n) You must use the service information identified in Tables 4, 5, and 6 of this AD to perform the actions that are required by this AD, unless the AD specifies otherwise. The Director of the Federal Register approved the incorporation by reference of these documents in accordance with 5 U.S.C. 552(a) and 1 CFR part 51. Contact Bombardier, Inc., Canadair, Aerospace Group, P.O. Box 6087, Station Centre-ville, Montreal, Quebec H3C 3G9, Canada, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 4.—Bombardier Service Bulletins Incorporated by Reference
Bombardier Service Bulletins (including the Component Time Tracking Log Card and Attachments Listed in Table 5 of this AD) | Revision level | Date
600-0710 | 01 | December 15, 2003.
601-0546 | 01 | December 15, 2003.
604-32-014 | Original | May 31, 2002.

Table 5.—Messier-Dowty Service Bulletins Incorporated by Reference
Messier-Dowty Service Bulletin (attachments) | Date | Attached to Bombardier Service Bulletin(s)—
M-DT SB104467009/010-32-1 | March 19, 2001 | 600-0710, 601-0546
M-DT SB19090-32-4 | March 19, 2001 | 604-32-014
M-DT SB20020-32-5 | July 12, 2001 | 604-32-014
M-DT SB200814001-32-3 | March 19, 2001 | 600-0710, 601-0546
M-DT SB200922001/2-32-6 | March 19, 2001 | 600-0710
M-DT SB200924003/004-32-16 | July 12, 2001 | 600-0710
M-DT SB6100-32-10 | March 19, 2001 | 601-0546
M-DT SB6500-32-1 | March 19, 2001 | 600-0710, 601-0546
M-DT SB7200-32-6 | March 19, 2001 | 600-0710, 601-0546
M-DT SB7300-32-16 | July 12, 2001 | 601-0546

Table 6.—Canadair Temporary Revisions Incorporated by Reference
Canadair temporary revision | Date | Applicable Canadair time-limits/maintenance check manual | Manual section
5-116 | April 11, 2002 | PSP 605 | 5-10-10
5-190 | April 11, 2002 | PSP 601-5 | 5-10-10
5-191 | April 11, 2002 | PSP 601-5 | 5-10-11
5-192 | April 11, 2002 | PSP 601-5 | 5-10-12
5-2-6 | April 11, 2002 | CL-604 | 5-10-10
5-204 | April 11, 2002 | PSP 601A-5 | 5-10-10
5-205 | April 11, 2002 | PSP 601A-5 | 5-10-11
5-206 | April 11, 2002 | PSP 601A-5 | 5-10-12

Issued in Renton, Washington, on July 11, 2005.
Ali Bahrami,
Manager, Transport Airplane Directorate, Aircraft Certification Service.

[FR Doc. 05-14175 Filed 7-25-05; 8:45 am]

BILLING CODE 4910-13-P